COMMODITY FUTURES TRADING COMMISSION

SECURITIES AND EXCHANGE COMMISSION

[Release No. 34-62725; File No. 4-609]

Joint Public Roundtable on Governance and Conflicts of Interest in the Clearing and Listing of Swaps and Security-Based Swaps

AGENCY: Commodity Futures Trading Commission (“CFTC”) and Securities and Exchange Commission (“SEC”) (each, an “Agency,” and collectively, the “Agencies”).

ACTION: Notice of roundtable discussion; request for comment.

SUMMARY: On August 20, 2010, commencing at 9 a.m. and ending at 12 p.m., staff of the Agencies will hold a public roundtable discussion at which invited participants will discuss governance and conflicts of interest in the context of certain authority that Sections 726 and 765 of the Dodd-Frank Wall Street Reform and Consumer Protection Act (the “Act”) granted to the Agencies respectively. The discussion will be open to the public with seating on a first-come, first-served basis. Members of the public may also listen by telephone. Call-in participants should be prepared to provide their first name, last name, and affiliation. The information for the conference call is set forth below.

• U.S./Canada Toll-Free: (866) 312-4390.

• International Toll: (404) 537-3379.

• Conference ID: 94280143.

A transcript of the public roundtable discussion will be published on the CFTC's governance rulemaking page at http://www.cftc.gov/LawRegulation/OTCDerivatives/OTC_9_DCOGovernance.html.

The roundtable discussion will take place in Lobby Level Hearing Room (Room 1000) at the CFTC's headquarters at Three Lafayette Centre, 1155 21st Street, NW., Washington, DC.

FOR FURTHER INFORMATION CONTACT: The CFTC's Office of Public Affairs at (202) 418-5080 or the SEC's Office of Public Affairs at (202) 551-4120.

SUPPLEMENTARY INFORMATION: The roundtable discussion will take place on Friday, August 20, 2010, commencing at 9 a.m. and ending at 12 p.m. Members of the public who wish to submit their views on the topics addressed at the discussion, or on any other topics related to governance and conflicts of interest in the context of the Act, may do so via:

• Paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• Electronic submission to the e-mail address provided on the CFTC's governance rulemaking page (all e-mails must reference “Dodd-Frank Governance” in the subject field); and/or by email to rule-comments@sec.gov or through the comment form available at: http://www.sec.gov/news/press/2010/2010-148.htm.

All submissions will be reviewed jointly by the Agencies. All comments must be in English or be accompanied by an English translation. All submissions provided to either Agency in any electronic form or on paper will be published on the Web site of the respective Agency, without review and without removal of personally identifying information. Please submit only information that you wish to make publicly available.

By the Securities and Exchange Commission.
Dated: August 16, 2010.
Elizabeth M. Murphy,
Secretary.
By the Commodity Futures Trading Commission.
Dated: August 16, 2010.
David A. Stawick,
Secretary.

[FR Doc. 2010-20591 Filed 8-18-10; 8:45 am]

BILLING CODE 8010-01-P, 6351-01-P